DEPARTMENT OF THE INTERIOR

Bureau of Land Management

[LLMT-06000-01-L10200000-PG0000]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held April 13 and 14, 2010.

The meetings will be in the Bureau of Land Management—Central Montana District Office conference room (920 NE Main Street) Lewistown, Montana.

The April 13 meeting will begin at 10 a.m. with a 30-minute public comment period and will adjourn at 5:30 p.m.

The April 14 meeting will begin at 8 a.m. with a 30-minute public comment period. Following that the RAC will leave the building for a field trip. The meeting will reconvene at 1 p.m. and will adjourn at 2:30 p.m.

SUPPLEMENTARY INFORMATION: This 15-member council advises the Secretary of the Interior on a variety of management issues associated with public land management in Montana. During these meetings the council will participate in/discuss/act upon:

RAC comments and discussions;

An update from the RAC's bison subgroup;

An update from the RAC's amenity fee subgroup;

A presentation featuring the Undaunted Stewardship program;

A status report on America Reinvestment and Recovery Act projects;

A review of the statewide public access project;

District managers' and Oil and Gas Field Station updates;

A presentation called BLM Proud;

A field trip to the Lime/Ruby Road Project;

A general review and discussion among RAC members; and

Administrative details (next meeting date, location, travel vouchers, etc.).

All RAC meetings are open to the public. The public may present written comments to the RAC. Each formal RAC meeting will also have time allocated for hearing public comments. Depending on the number of persons wishing to comment and time available, the time for individual oral comments may be limited.

FOR FURTHER INFORMATON CONTACT: Gary L. “Stan” Benes, District Manager, Central Montana District Office, P.O. Box 1160, Lewistown, Montana 59457, 406/538-1900.

Dated: March 10, 2010.
Gary L. “Stan” Benes,
Central Montana District Manager.

[FR Doc. 2010-6227 Filed 3-19-10; 8:45 am]

BILLING CODE 4310-DN-P